DEPARTMENT OF TRANSPORTATION

Federal Aviation Administration

14 CFR Parts 11, 61, 68, and 91

[Docket No. FAA-2024-2580; Amdt. Nos. 11-70, 61-158, 68-3, and 91-380]

RIN 2120-AM06

Regulatory Updates to BasicMed

AGENCY: Federal Aviation Administration (FAA), Department of Transportation (DOT).

ACTION: Final rule.

SUMMARY: This final rule implements, without interpretation, the provisions of sections 815 and 828 of the FAA Reauthorization Act of 2024 (“the Act”). To conform the FAA's regulations to the self-enacting provisions in the Act, this final rule amends certain regulations to: align aircraft conditions and limitations with the term “covered aircraft” as defined in section 2307(j) of the FAA Extension, Safety, and Security Act of 2016 to increase the number of allowable passengers from 5 to 6, increase the number of occupants from 6 to 7, and increase the maximum takeoff weight from 6,000 pounds to 12,500 pounds, while excluding certain transport category rotorcraft. This final rule facilitates updates to current standards the medical form a State-licensed physician uses in completing a comprehensive medical examination. Further, this final rule amends regulations to incorporate the statutory expansion of BasicMed medical eligibility to examiners conducting practical tests or proficiency checks if they meet the requirements for operating covered aircraft under BasicMed, as provided in the Act.

DATES: This rule is effective on November 18, 2024.

ADDRESSES: For information on where to obtain copies of rulemaking documents and other information related to this final rule, see “How to Obtain Additional Information” in the SUPPLEMENTARY INFORMATION section of this document.

FOR FURTHER INFORMATION CONTACT: Bradley C. Zeigler, Federal Aviation Administration, 800 Independence Avenue SW, Washington, DC 20591; telephone: (202) 267-1100; email: Bradley.C.Zeigler@faa.gov.

SUPPLEMENTARY INFORMATION:

I. Executive Summary

On May 16, 2024, the President signed into law the FAA Reauthorization Act of 2024 (Pub. L. 118-63) (“the Act”), impacting certain requirements for BasicMed in section 815, BasicMed for Examiners Administering Tests or Proficiency Checks, and section 828, Expansion of BasicMed. Specifically, section 815 expanded the privileges of BasicMed to examiners and section 828 amended provisions in section 2307 of the FAA Extension, Safety, and Security Act of 2016 (49 U.S.C. 44703 note) (FESSA) directly applicable to BasicMed. The Act also directed the Administrator of the FAA to implement the amendments made in sections 815 and 828 through rulemaking. Section 828 further provides that the Administrator of the FAA shall update regulations in 14 CFR parts 61 and 68 to implement the amendments made in the Act (i.e., the updated statutory language in FESSA), and within 180 days of the enactment, apply parts 61 and 68 to ensure that an individual may operate as pilot in command of a covered aircraft if the provisions of section 2307 of FESSA are met. The amendments to parts 61 and 68 in this final rule align with the statutory charge set forth by section 828 ¹ in the following manner:

¹ See sec. 828(a).

• Increase the number of allowable passengers from 5 to 6 and occupants from 6 to 7 for covered aircraft;

• Increase the maximum takeoff weight from 6,000 pounds to 12,500 pounds for covered aircraft;

• Clarify that calendar months will be used in determining the duration of the comprehensive medical examination for those persons acting as the pilot in command or as a required flightcrew member for operations under § 61.113(i);

• Specify that covered aircraft does not include transport category rotorcraft certified to airworthiness standards under part 29; and

• Clarify which versions of FAA Form 8500-8, Application for Airman Medical Certificate, may be used to populate the questions in the BasicMed Comprehensive Medical Examination Checklist.

Section 815, BasicMed For Examiners Administering Tests or Proficiency Checks, provides that an examiner may administer a practical test or proficiency check if such examiner meets the medical eligibility requirements for BasicMed and the flight is conducted in a covered aircraft.² While the FAA finds the expansion to be self-enacting, the section provided the FAA with three years to issue a final rule updating the regulations, as well as any related requirements the Administrator finds are in the interest of aviation safety.³ This final rule will, therefore, update § 61.23 to permit persons performing the duties of an examiner to administer a practical test or proficiency check without holding a medical certificate issued under part 67, provided those persons meet the requirements to operate under the conditions and limitations set forth in § 61.113(i).

² Sec. 815(a).

³ Sec. 815(b).

Summary of the Costs and Benefits

There are no costs or benefits of this rule relative to the with-statute baseline. This rule conforms FAA regulations to self-implementing legislation in sections 815 and 828 of the FAA Reauthorization Act of 2024. Under the updated Office of Management and Budget (OMB) Circular A-4 guidance,⁴ an agency may use a with-statute baseline for estimating costs and benefits for regulations that simply restate statutory requirements in self-implementing legislation. Since the rule does not deviate from the self-implementing statutory provisions, there are no costs or benefits as measured against the with-statute baseline.

⁴ OMB Circular No. A-4 updated November 9, 2023, page 12. Accessed September 30, 2024 at: https://www.whitehouse.gov/wp-content/uploads/2023/11/CircularA-4.pdf.

II. Authority for This Rulemaking

The FAA's authority to issue rules on aviation safety is found in Title 49 of the United States Code (49 U.S.C.). Subtitle I, section 106 describes the authority of the FAA Administrator. Subtitle VII, Aviation Programs, describes in more detail the scope of the agency's authority. This final rule is promulgated under the authority described in subtitle VII, part A, subpart iii, section 44701, General Requirements; section 44702, Issuance of Certificates; and section 44703, Airman Certificates. Under these sections, the FAA is charged with prescribing regulations and minimum standards for practices, methods, and procedures the Administrator finds necessary for safety in air commerce. The FAA is also authorized to issue certificates, including airman certificates and medical certificates, to qualified individuals. This final rule is within the scope of that authority.

BasicMed provisions were originally promulgated under section 2307 of Public Law 114-190, the FAA Extension, Safety and Security Act of 2016. The requirements of this rule continue to be within that authority, as well as under sections 815 and 828 of the FAA Reauthorization Act of 2024.

III. Good Cause for Immediate Adoption

The Administrative Procedure Act (5 U.S.C. 553(b)(B)) requires an agency to conduct notice and comment rulemaking except when the agency for good cause finds (and incorporates the finding and a brief statement of reasons therefor in the rules issued) that notice and public procedure thereon are impracticable, unnecessary, or contrary to the public interest. Additionally, section 553(d) permits agencies, upon a finding of good cause, to issue rules with an effective date less than 30 days from the date of publication. The FAA finds good cause to forgo notice and opportunity for comment and the 30 days notice requirement to implement the statutory amendments as a final rule.

First, as it pertains to section 815, the FAA finds that notice and the opportunity for comment to be unnecessary because the final rule implements the statutory provisions without interpretation. The declaratory provision of section 815(a) became effective on May 16, 2024, immediately upon passage of the Act. While section 815(b) provided three years to conform the regulations with the self-enacting provision, the FAA has simply adopted the statutory language without interpretation and implements that language directly into the regulations, rendering notice and the opportunity for comment unnecessary.

Second, as it pertains to section 828, by effect of section 828(c), which directs the Administrator to “apply parts 61 and 68, Code of Federal Regulations, in a manner reflecting the amendments made by this section,” the FAA must implement the provisions of section 828(a) beginning 180 days after passage of the Act (i.e., November 12, 2024). Notice and the opportunity for comment are unnecessary in this action because the FAA is strictly implementing the amendments made to the statutory provisions in section 2307 of FESSA without interpretation. This rule conforms parts 61, 68, and 91 to the specific amended provisions within the Act. Additionally, because the FAA is simply amending the regulations to the language in section 2307 of FESSA, the updated regulations do not impose any additional substantive restrictions or requirements on the persons affected by these regulations. Further, case law supports the concept that the FAA's compliance to implement a rule by the statutorily prescribed deadline of November 12, 2024, makes compliance with section 553 impracticable and supports a finding of good cause to forgo notice and the opportunity for comment.⁵

⁵ Philadelphia Citizens in Action v. Schweiker, 669 F. 2d 877, 885-86 (3rd Cir. 1982) (finding the need for compliance with a statutorily prescribed deadline to contribute to a finding of good cause).

For similar reasons, the FAA finds good cause to forgo the 30 days delay of effective date requirement under 5 U.S.C. 553(d) because 30 days delay of effective date is impracticable and unnecessary. The FAA is publishing this rule with an immediate effective date to comply with the statutory deadline imposed in section 828 of the Act, which directed the FAA to apply parts 61 and 68 to reflect the amendments beginning 180 days after the Act's enactment. Additionally, because section 815 has been effective since May 14, 2024, (i.e., self-enacting), 30 days notice is unnecessary. Delaying the effective date of this final rule will not stay these requirements from being legally binding and would only cause inconsistency between the FAA's regulations and the statutory provisions already in effect.⁶ Therefore, the FAA finds good cause to forgo the 30 days effective date requirement to comply with the Congressional directive and align with FAA's regulations with the self-enacting statutory provisions.

⁶ See Clay Broadcasting Corp. v. United States, 464 F.2d 1313, 1320 (5th Cir. 1972), rev'd on other grounds sub nom. National Cable Television Ass'n, Inc. v. United States, 415 U.S. 336 (1974) (finding an effective date in accordance with a Congressional directive supports good cause to forgo the 30 days notice requirement.).

Finally, this final rule makes one technical amendment to add an OMB control number for an already existing and approved information collection to the FAA's regulatory list of control numbers in part 11. The FAA finds that notice and comment is unnecessary for such technical change.⁷

⁷ Technical amendments are “a routine determination, insignificant in nature and impact, and inconsequential to the industry and to the public.” See Mack Trucks, Inc. v. EPA, 682 F.3d 87, 94 (D.C. Cir. 2012))(quotation marks and citation omitted); See also United States v. Mullins, 2012 WL 3777067, at *4 (D. Vt. Aug. 29, 2012) (explaining that public comment is unnecessary if minor or merely technical amendments in which the public is not particularly interested were involved).

IV. Background

FESSA was enacted on July 15, 2016. Section 2307(a) of FESSA, Medical Certification of Certain Small Aircraft Pilots, directed the FAA to “issue or revise regulations to ensure that an individual may operate as pilot in command of a covered aircraft” without having to undergo the medical certification process under 14 CFR part 67 if the pilot and aircraft meet certain prescribed requirements as outlined in FESSA. The FAA implemented, without interpretation, the provisions of section 2307 of FESSA by publishing the Alternative Pilot Physical Examination and Education Requirements final rule on January 11, 2017,⁸ which amended parts 61 and 91 and created part 68.⁹ These medical eligibility requirements for pilots are collectively known as BasicMed.

⁸ 82 FR 3149.

⁹ BasicMed was additionally modified on November 22, 2022, by Medical Certification Standards for Commercial Balloon Operations final rule (87 FR 71218) to expand BasicMed to required flightcrew members in addition to persons acting as pilot in command in accordance with section 318 of Public Law 115-254 (“Commercial Balloon Pilot Safety Act of 2018”) and in response to NTSB Safety Recommendation A-17-034.

On May 16, 2024, the President signed the FAA Reauthorization Act of 2024 (Pub. L. 118-63) into law. Specific to this rulemaking, the FAA Reauthorization Act of 2024, sections 815 and 828, promulgates certain changes to (1) expand the applicability of BasicMed to pilot examiners, (2) expand the definition of a covered aircraft in FESSA, (3) apply consistent usage of the term “calendar months,” and (4) permit the FAA to modify forms related to comprehensive medical examination checklists. As discussed herein, certain changes were self-enacting upon enactment of the Reauthorization, while others are self-enacting 180 days from the enactment of the Reauthorization. This final rule conforms FAA regulations as set forth by the Reauthorization.

V. Section 828 Expansion of BasicMed

Section 828(a) of the Act amended certain requirements set forth in FESSA, section 2307, paragraphs (a)(2), (a)(7), (a)(8)(A), (b)(2)(A)(i), (h), and (j). First, section 828 revises the definition of covered aircraft to increase the number of occupants in a BasicMed covered aircraft from 6 to 7, increases the maximum certificated takeoff weight from 6,000 pounds to 12,500 pounds, and excludes transport category rotorcraft certified to airworthiness standards under part 29. Second, section 828(a) also increases the maximum number of passengers from 5 to 6, modifies the duration of time for a comprehensive medical examination from 48 months to 48 calendar months, and updates which medical application form versions the FAA may use to populate the questions of the Comprehensive Medical Examination Checklist (BasicMed), FAA Form 8700-2 (CMEC). While section 828(b) directs the FAA to amend regulations in 14 CFR parts 61 and 68 without imposing a deadline to do so,¹⁰ paragraph (c) requires the FAA to apply parts 61 and 68 in a manner reflecting the amendments made by paragraph (a) within 180 days of the enactment of the Act (i.e., November 12, 2024). The amended requirements of section 828 and the FAA's implementation of those requirements are subsequently discussed.

¹⁰ While the statute directs the FAA to amend parts 61 and 68, the FAA notes that in order to implement the expansion of BasicMed to experimental aircraft which are not type certificated as the regulations currently reflect, the FAA must amend part 91. Section 91.319 prescribes operating limitations for aircraft having experimental certificates. This aligns with the approach set forth by the Alternative Pilot Physical Examination and Education Requirements final rule (82 FR 3149).

A. Calendar Month (§ 61.23(c)(3)(i)(D))

Prior to this rule, § 61.23(c)(3)(i)(D) required that, to be eligible to operate under BasicMed, an individual must complete their comprehensive medical examination from a State-licensed physician during the 48 months before acting as a pilot in command or serving as a required flightcrew member in operations under § 61.113(i) and in accordance with the relevant requirements in part 68. This requirement was consistent with the directive of section 2307(a)(7) of FESSA at the time of final rule adoption ¹¹ (i.e., before May 16, 2024). With the exception of § 61.23(c)(3)(i)(D), the FAA has generally used the term “calendar month” throughout part 61 to refer to periods of time for the purposes of recency. Further, the usage of the term “month” was inconsistent within section 2307 of FESSA, which used the term “month” to refer to the duration of a comprehensive medical examination, but “calendar month” when referring to the duration of recency for the medical education course. This amendment will implement section 828(a)(1)(B) to correct the term and align the language in § 61.23 with part 61 convention and section 2307(a)(7) of FESSA to state “calendar month.”

¹¹ 82 FR 3149 at 3154.

B. Covered Aircraft Requirements (§§ 61.113(i)(1) and 91.319(j))

In section 2307(j) of FESSA, as promulgated in 2016, a covered aircraft was defined as an aircraft that (1) is authorized under Federal law to carry not more than 6 occupants; and (2) has a maximum certificated takeoff weight of not more than 6,000 pounds. These requirements were implemented for aircraft authorized under Federal law.¹² Section 828(a)(4) of the FAA Reauthorization Act of 2024 amended section 2307(j) of FESSA to increase the number of occupants an aircraft is authorized to carry under Federal law from 6 to 7 and to increase the maximum certificated takeoff weight from not more than 6,000 pounds to not more than 12,500 pounds. Additionally, section 828(a)(4) added a third provision to section 2307(j) of FESSA to exclude transport category rotorcraft certificated to airworthiness standards under part 29. To note, these amendments were immediately adopted within 49 U.S.C. 44703 note (FESSA).

¹² Comprehensive discussion regarding the FAA's analysis and implementation of “aircraft authorized under Federal Law” may be found at 82 FR 3149, at 3154.

For aircraft authorized under Federal law, this final rule revises § 61.113(i)(1) to reflect the provisions of section 2307(j), as amended by section 828(a)(4).¹³ Additionally, this final rule revises § 91.319(j) to increase the maximum number of occupants that a person may carry in an experimental aircraft operated under § 61.113(i) from 6 to 7.¹⁴

¹³ Section 61.113 refers to the parameters of aircraft; however, the 2017 preamble unintentionally narrowed the aircraft authorized to type certificated aircraft and experimental aircraft, inadvertently omitting aircraft such as light sport aircraft and special flight permits. In practice, the FAA applies § 61.113 to any aircraft meeting the definition of “covered aircraft” and will continue to do so.

¹⁴ As previously stated in footnote 8 of this preamble, the statute directs the FAA to amend parts 61 and 68; however, because experimental aircraft are not type certificated but may be operated under BasicMed given the definitions set forth in FESSA, the FAA finds it appropriate to amend part 91 as well. Because experimental aircraft may be operated under BasicMed, the FAA omitted the word “certificated” from “maximum takeoff weight” in the 2017 final rule regulatory text, which is also reflected in this final rule.

C. Passengers in Covered Aircraft (§ 61.113(i)(1))

Section 2307(a)(8) of FESSA established limitations for operations under BasicMed. One operating requirement limited an individual operating in the covered aircraft from carrying more than 5 passengers. Section 828 of the Act amended section 2307(a)(8)(A) (i.e., the operating requirement) by increasing the number of passengers from 5 to 6. This final rule will revise § 61.113(i)(1) to reflect this increased passenger limitation. Therefore, a covered aircraft may now be authorized to carry up to 7 occupants (including any required flight crewmembers) and may be operating with up to 6 passengers on board.¹⁵

¹⁵ For additional discussion on the relationship between “occupants” and “passengers” as it pertains to covered aircraft, see 82 FR 3149 at 3154.

D. Comprehensive Medical Examination Checklist (§ 68.7(a)(1))

To comply with the requirements of BasicMed, a pilot must receive a comprehensive medical examination from a State-licensed physician.¹⁶ The State-licensed physician conducts the examination using the CMEC ¹⁷ completed by the recipient prior to the examination. Section 2307(b)(2) of FESSA prescribes the content of the CMEC, implemented in § 68.7. Originally, section 2307(b)(2)(A)(i) specified that the checklist must be populated with specific questions from FAA Form 8500-8 (3-99); however, the 3-99 version of FAA Form 8500-8 is now obsolete and no longer an active form.

¹⁶ 14 CFR 61.23(c)(3)(D).

¹⁷ During this rulemaking, the FAA discovered that the rule establishing BasicMed, Alternative Pilot Physical Examination and Education Requirements, did not add OMB control number 2120-0770 (approving the new information collection for FAA Form 8700-2) to § 11.201. Section 11.201 sets forth an informational list of current OMB control numbers, organized by 14 CFR part or section, identified and described for reference to the FAA's information collection activities. This final rule corrects the error by adding the OMB control number to the table set forth in § 11.201(b).

Now, section 828(a)(2) of the Act amended section 2307(b)(2)(A)(i) of FESSA to specify that the checklist must include certain questions from the 8500-8 (3-99) or any successor form, which include pertinent medical history of the examination recipient. As a result of the amendment, this final rule amends § 68.7(a)(1) by inserting the language “(or any successor form)” following “FAA Form 8500-8 (3-99).” In practice, this amendment explicitly facilitates future updates to the FAA Form 8700-2 CMEC and incorporates changes made to specific questions in subsequent versions of FAA Form 8500-8.

VI. Expanding BasicMed for Examiners Administering Tests or Proficiency Checks

Prior to FESSA, the medical eligibility requirements for an examiner mirrored the requirements for the applicant taking the examination. The provisions of section 2307 of FESSA, and subsequent modifications to apply BasicMed to required flightcrew members, did not originally apply to examiners because an examiner does not typically act as pilot in command of the aircraft for a practical test and only serves as a required flightcrew member during portions of a practical test.¹⁸

¹⁸ E.g., acting as a safety pilot under 14 CFR 91.109(c)(1).

Section 815(a) of the FAA Reauthorization Act of 2024 permits examiners to administer a practical test or proficiency check so long as the examiner meets the medical eligibility requirements of BasicMed (i.e., the examiner meets the medical qualification requirements under part 68 and the operation is conducted in a covered aircraft as defined in section 2307(j) of FESSA). While the FAA determined that this provision was self-enacting as of May 16, 2024, section 815(b) of the Act directs the FAA to issue a final rule revising part 61 within three years of enactment. Section 815(b) also permits the Administrator to add “any related requirements the Administrator finds are in the interest of aviation safety” to the final rule; however, at this time, the FAA does not find any related requirements warranted and will not be adding any additional related requirements to this final rule. To align the regulations with the self-enacting statute, this final rule adds new § 61.23(c)(1)(vii) ¹⁹ to explicitly allow examiners to administer practical tests or proficiency checks for airman certificates, ratings, or authorizations, provided the flight is conducted under the conditions and limitations set forth in § 61.113(i).

¹⁹ As a result, this final rule revises § 61.23(c)(1)(v) and (vi) to account for list expansion (i.e., simply removing “or” from paragraph (c)(1)(v) and adding “or” to paragraph (c)(1)(vi)).

The amended provisions in § 61.23(a)(3)(iv) to allow examiners to perform their duties under BasicMed use the phrase “when meeting the requirements to operate under the conditions and limitations set forth in § 61.113(i)” rather than “when operating under the conditions and limitations set forth in § 61.113(i)” because § 61.113(i) applies to persons exercising private pilot privileges as either pilot in command or as a required flightcrew member. The added phrase “when meeting the requirements” was included to clarify that even though the examiner may not be performing a pilot duty as an examiner and not serving as either pilot in command or as a required flightcrew member, that person may serve as an examiner without holding a medical certificate provided that person has otherwise met all the requirements to operate as pilot in command or as a required flightcrew member under BasicMed.

VII. Regulatory Notices and Analyses

Federal agencies consider impacts of regulatory actions under a variety of executive orders and other requirements. First, Executive Order 12866, Executive Order 13563, and Executive Order 14094 (“Modernizing Regulatory Review”) direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100 million or more (adjusted annually for inflation) in any one year. The current threshold after adjustment for inflation is $183 million using the most current (2023) Implicit Price Deflator for the Gross Domestic Product. This portion of the preamble summarizes the FAA's analysis of the economic impacts of this rule.

In conducting these analyses, the FAA has determined that this final rule: (1) has benefits that justify its costs, (2) is not a “significant regulatory action” as defined in section 3(f)(1) of Executive Order 12866, (3) will not create unnecessary obstacles to the foreign commerce of the United States; and (4) will not impose an unfunded mandate on State, local, or tribal governments, or on the private sector by exceeding the threshold identified above. As the FAA finds good cause to forgo notice and opportunity for comment under 5 U.S.C. 553(b)(B) for this final rule, 5 U.S.C. 603 and 604 do not require regulatory flexibility analyses regarding impacts on small entities.

A. Regulatory Evaluation

There are no costs or benefits of this rule relative to the with-statute baseline. This rule conforms FAA regulations to self-implementing legislation in sections 815 and 828 of the FAA Reauthorization Act of 2024. Section 815 allows a pilot examiner to perform authorized examiner duties so long as the examiner can otherwise meet the requirements to operate under BasicMed in the aircraft being used for the practical test or proficiency check. Section 828 expands BasicMed by increasing the number of allowable passengers in a covered aircraft to 6 (up from 5); increasing the allowable number of seats in a covered aircraft to 7 (up from 6); and increasing the maximum certificated takeoff weight of a covered aircraft to 12,500 pounds (up from 6,000 pounds). This expansion of Basic Med does not apply to transport category rotorcraft certified to airworthiness standards under part 29.

Under the updated OMB Circular A-4 guidance,²⁰ an agency may use a with-statute baseline for estimating costs and benefits for regulations that simply restate statutory requirements in self-implementing legislation. Since the rule does not deviate from the self-implementing statutory provisions, there are no costs or benefits as measured against the with-statute baseline.

²⁰ OMB Circular No. A-4 updated November 9, 2023, page 12. Accessed September 30, 2024, at: https://www.whitehouse.gov/wp-content/uploads/2023/11/CircularA-4.pdf.

B. Regulatory Flexibility Determination

The Regulatory Flexibility Act (RFA), in 5 U.S.C. 603, requires an agency to prepare an initial regulatory flexibility analysis describing impacts on small entities whenever 5 U.S.C. 553 or any other law requires an agency to publish a general notice of proposed rulemaking for any proposed rule. Similarly, 5 U.S.C. 604 requires an agency to prepare a final regulatory flexibility analysis when an agency issues a final rule under 5 U.S.C. 553 after that section or any other law requires publication of a general notice of proposed rulemaking. The FAA finds good cause to forgo notice and comment and to not delay the effective date for this rule. As 5 U.S.C. 553(b)(B) permits an agency to forgo notice and the opportunity for comment when good cause exists and the FAA finds good cause exists in this situation, 5 U.S.C. 603 and 604 similarly do not require regulatory flexibility analyses.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety and does not operate in a manner that excludes imports that meet this objective. The statute also requires consideration of international standards and, where appropriate, that they be the basis for U.S. standards.

The FAA has assessed the potential effect of this final rule and determined that it will only have a domestic impact and therefore will not create unnecessary obstacles to the foreign commerce of the United States.

D. Unfunded Mandates Assessment

The Unfunded Mandates Reform Act of 1995 (2 U.S.C. 1531-1538) governs the issuance of Federal regulations that require unfunded mandates. An unfunded mandate is a regulation that requires a State, local, or tribal government, or the private sector to incur direct costs without the Federal government having first provided the funds to pay those costs. The FAA determined that the final rule will not result in the expenditure of $183 million or more by State, local, or tribal governments, in the aggregate, or the private sector, in any one year.

E. Paperwork Reduction Act

The Paperwork Reduction Act of 1995 (44 U.S.C. 3507(d)) requires that the FAA consider the impact of paperwork and other information collection burdens imposed on the public. According to the 1995 amendments to the Paperwork Reduction Act (5 CFR 1320.8(b)(2)(vi)), an agency may not collect or sponsor the collection of information, nor may it impose an information collection requirement unless it displays a currently valid Office of Management and Budget (OMB) control number.

The FAA has determined that there would be no new information collection associated with the requirement to complete the Comprehensive Medical Examination Checklist associated with this final rule. Approval to collect such information previously was approved by the Office of Management and Budget (OMB) under the provisions of the Paperwork Reduction Act of 1995 (44 U.S.C. 3507(d)) and was assigned OMB Control Number 2120-0770.

The FAA lists OMB control numbers assigned to its information collection activities in 14 CFR 11.201(b). Accordingly, this technical amendment updates 14 CFR 11.201(b) to display OMB control number 2120-0770 associated with the information collection activities in the final rule, Alternative Pilot Physical Examination and Education Requirements.

F. International Compatibility and Cooperation

In keeping with U.S. obligations under the Convention on International Civil Aviation, it is FAA policy to conform to International Civil Aviation Organization (ICAO) Standards and Recommended Practices (SARPs) to the maximum extent practicable. The FAA has reviewed ICAO SARPs applicable to private pilots.

Airmen certificated by the FAA are represented to ICAO as compliant with ICAO standards for private pilots, among other requirements. As FESSA and this final rule describe standards that diverge from ICAO requirements,²¹ flights must be geographically limited to operations within the United States, unless authorized by the country in which the flight is conducted.

²¹ Annex 1 to the Convention on International Civil Aviation, “Personnel Licensing,” Chapter 6 “Medical Provisions for Licensing,” 11th Edition (July 2011).

The FAA will modify certain differences to reflect that certain U.S. private pilots no longer are required to hold a current FAA airman medical certificate. A filing is required for certain ICAO Annex 1 SARPs found in Chapters 1, 2, and 6.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6f for regulations and involves no extraordinary circumstances.

VIII. Executive Order Determinations

A. Executive Order 13132, Federalism

The FAA has analyzed this final rule under the principles and criteria of Executive Order 13132, Federalism. The FAA has determined that this action will not have a substantial direct effect on the States, or the relationship between the Federal Government and the States, or on the distribution of power and responsibilities among the various levels of government, and, therefore, will not have federalism implications.

B. Executive Order 13175, Consultation and Coordination With Indian Tribal Governments

Consistent with Executive Order 13175, Consultation and Coordination with Indian Tribal Governments, and FAA Order 1210.20, American Indian and Alaska Native Tribal Consultation Policy and Procedures, the FAA ensures that Federally Recognized Tribes (Tribes) are given the opportunity to provide meaningful and timely input regarding proposed Federal actions that have the potential to have substantial direct effects on one or more Indian Tribes, on the relationship between the Federal Government and Indian Tribes, or on the distribution of power and responsibilities between the Federal Government and Indian Tribes; or to affect uniquely or significantly their respective Tribes. At this point, the FAA has not identified any unique or significant effects, environmental or otherwise, on Tribes resulting from this final rule.

C. Executive Order 13211, Regulations That Significantly Affect Energy Supply, Distribution, or Use

The FAA analyzed this final rule under Executive Order 13211, Actions Concerning Regulations that Significantly Affect Energy Supply, Distribution, or Use. The FAA has determined that it is not a “significant energy action” under the Executive order and is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609 and has determined that this action will have no effect on international regulatory cooperation.

IX. Additional Information

A. Electronic Access and Filing

A copy of this final rule and all background material may be viewed online at www.regulations.gov using the docket number listed above. A copy of this final rule will be placed in the docket. Electronic retrieval help and guidelines are available on the website. It is available 24 hours each day, 365 days each year. An electronic copy of this document may also be downloaded from the Office of the Federal Register's website at www.federalregister.gov and the Government Publishing Office's website at www.govinfo.gov. A copy may also be found at the FAA's Regulations and Policies website at www.faa.gov/regulations_policies.

Copies may also be obtained by sending a request to the Federal Aviation Administration, Office of Rulemaking, ARM-1, 800 Independence Avenue SW, Washington, DC 20591, or by calling (202) 267-9677. Requestors must identify the docket or amendment number of this rulemaking.

All documents the FAA considered in developing this final rule, including economic analyses and technical reports, may be accessed from the internet through the Federal eRulemaking Portal referenced above.

B. Small Business Regulatory Enforcement Fairness Act

The Small Business Regulatory Enforcement Fairness Act of 1996 (SBREFA) requires the FAA to comply with small entity requests for information or advice about compliance with statutes and regulations within its jurisdiction. A small entity with questions regarding this document may contact its local FAA official or the person listed under the FOR FURTHER INFORMATION CONTACT heading at the beginning of the preamble. To find out more about SBREFA on the internet, visit http://www.faa.gov/regulations_policies/rulemaking/sbre_act/.

List of Subjects

14 CFR Part 11

Administrative practice and procedure, Reporting and recordkeeping requirements.

14 CFR Part 61

Aircraft, Airmen, Aviation safety, Reporting and recordkeeping requirements.

14 CFR Part 68

Aircraft, Airmen, Health, Reporting and recordkeeping requirements.

14 CFR Part 91

Aircraft, Airmen, Aviation safety, Reporting and recordkeeping requirements, Transportation.

The Amendment

In consideration of the foregoing, the Federal Aviation Administration amends chapter I of title 14, Code of Federal Regulations as follows:

Part 11—GENERAL RULEMAKING PROCEDURES

1. The authority citation for part 11 continues to read as follows:

Authority: 49 U.S.C. 106(f), 40101, 40103, 40105, 40109, 40113, 44110, 44502, 44701-44702, 44711, and 46102.

2. Amend § 11.201 by revising the table in paragraph (b) to read as follows:

§ 11.201 Office of Management and Budget (OMB) control numbers assigned under the Paperwork Reduction Act.

* * * * *

(b) * * *

14 CFR part or section identified and described | Current OMB control No.
* * * * *
Part 68 | 2120-0770
* * * * *

PART 61—CERTIFICATION: PILOTS, FLIGHT INSTRUCTORS, AND GROUND INSTRUCTORS

3. The authority citation for part 61 is revised to read as follows:

Authority: 49 U.S.C. 106(f), 40113, 44701-44703, 44707, 44709-44711, 44729, 44903, 45102-45103, 45301-45302; Sec. 2307 Pub. L. 114-190, 130 Stat. 615 (49 U.S.C. 44703 note); sec. 318, Pub. L. 115-254, 132 Stat. 3186 (49 U.S.C. 44703 note); and secs. 815 and 828, Pub. L. 118-63, 138 Stat. 1330 (49 U.S.C. 44703 note).

4. Amend § 61.23 by revising paragraphs (a)(3)(iv), (c)(1)(v) and (vi), adding paragraph (c)(1)(vii), and revising paragraph (c)(3)(i)(D) to read as follows:

§ 61.23 Medical certificates: Requirement and duration.

(a) * * *

(3) * * *

(iv) When performing the duties as an Examiner in an aircraft when administering a practical test or proficiency check for an airman certificate, rating, or authorization, except when meeting the requirements to operate under the conditions and limitations set forth in § 61.113(i).

* * * * *

(c) * * *

(1) * * *

(v) Exercising the privileges of a student, recreational or private pilot certificate if the flight is conducted under the conditions and limitations set forth in § 61.113(i);

(vi) Exercising the privileges of a flight instructor certificate and acting as the pilot in command or as a required flight crewmember if the flight is conducted under the conditions and limitations set forth in § 61.113(i); or

(vii) Serving as an Examiner and administering a practical test or proficiency check for an airman certificate, rating, or authorization if the flight is conducted under the conditions and limitations set forth in § 61.113(i).

* * * * *

(3) * * *

(i) * * *

(D) Receive a comprehensive medical examination from a State-licensed physician during the 48 calendar months before acting as pilot in command or serving as a required flightcrew member of an operation conducted under § 61.113(i) and that medical examination is conducted in accordance with the requirements in part 68 of this chapter; and

* * * * *

5. Amend § 61.113 by revising paragraph (i)(1) to read as follows:

§ 61.113 Private pilot privileges and limitations: Pilot in command.

* * * * *

(i) * * *

(1) The aircraft is authorized to carry not more than 7 occupants, has a maximum takeoff weight of not more than 12,500 pounds, is operated with no more than 6 passengers on board, and is not a transport category rotorcraft certified to airworthiness standards under part 29 of this chapter; and

* * * * *

PART 68—REQUIREMENTS FOR OPERATING CERTAIN SMALL AIRCRAFT WITHOUT A MEDICAL CERTIFICATE

6. The authority citation for part 68 is revised to read as follows:

Authority: 49 U.S.C. 106(f), 44701-44703, sec. 2307 of Pub. L. 114-190, 130 Stat. 615 (49 U.S.C. 44703 note); sec. 828 of Pub. L. 118-63, 138 Stat. 1330 (49 U.S.C. 44703).

7. Amend § 68.7 by revising paragraph (a)(1) to read as follows:

§ 68.7 Comprehensive Medical Examination Checklist.

* * * * *

(a) * * *

(1) Boxes 3 through 13 and boxes 16 through 19 of the FAA Form 8500-8 (3-99), or any successor form; and

* * * * *

Part 91—GENERAL OPERATING AND FLIGHT RULES

8. The authority citation for part 91 is revised to read as follows:

Authority: 49 U.S.C. 106(f), 40101, 40103, 40105, 40113, 40120, 44101, 44111, 44701, 44704, 44709, 44711, 44712, 44715, 44716, 44717, 44722, 46306, 46315, 46316, 46504, 46506-46507, 47122, 47508, 47528-47531, 47534; Pub. L. 114-190, 130 Stat. 615 (49 U.S.C. 44703 note); Sec. 828 of Pub. L. 118-63, 138 Stat. 1330 (49 U.S.C. 44703 note); articles 12 and 29 of the Convention on International Civil Aviation (61 Stat. 1180), (126 Stat. 11).

9. Amend § 91.319 by revising paragraph (j) to read as follows:

§ 91.319 Aircraft having experimental certificates: Operating limitations.

* * * * *

(j) No person may operate an aircraft that has an experimental certificate under § 61.113(i) of this chapter unless the aircraft is carrying not more than 7 occupants.

Issued in Washington, DC, under the authority of 49 U.S.C. 106(f) and secs. 815 and 828 of Public Law 118-63.
Michael Gordon Whitaker,
Administrator.

[FR Doc. 2024-26935 Filed 11-14-24; 4:15 pm]

BILLING CODE 4910-13-P